DEPARTMENT OF HOUSING AND URBAN DEVELOPMENT

[Docket No. FR-5834-N-01]

60 Day Notice of Proposed Information Collection; Ginnie Mae Mortgage-Backed Securities Guide 5500.3, Revision 1 (Forms and Electronic Data Submissions)

AGENCY: Office of the President of Government National Mortgage Association (Ginnie Mae), HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: September 4, 2015.

ADDRESSES: Interested persons are invited to submit comments regarding this proposal. Comments should refer to the proposal by name and/or OMB Control Number and should be sent to either: Anna Guido, FOIA/Privacy Specialist: email: Anna.P.Guido@hud.gov; telephone: 202-402-5534 or Colette Pollard, Management Analyst: email: Colette.Pollard@hud.gov; telephone: 202-708-0306. The above phone numbers are not toll-free numbers. Address is Department of Housing and Urban Development, 451 7th Street SW., Room 4160, Washington, DC 20410. Copies of available documents submitted to OMB may be obtained from either Ms. Guido or Ms. Pollard.

FOR FURTHER INFORMATION CONTACT: Debra Murphy, Ginnie Mae, 451 7th Street SW., Room B-133, Washington, DC 20410; email—Debra.L.Murphy@hud.gov;telephone—(202) 475-4923 (this is not a toll-free number); Victoria Vargas, Ginnie Mae, 451 7th Street SW., Room B-133, Washington, DC 20410; email—Victoria.Vargas@hud.gov; telephone (202) 475-6752 (this is not a toll-free number); or the Ginnie Mae Web site at www.ginniemae.gov for other available information.

SUPPLEMENTARY INFORMATION: The Department will submit the proposed information collection to OMB for review, .13 required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden hours of the proposed collection of information; (3) Enhance the quality, utility, and clarity of the information to be collected; and (4) Minimize the burden of the collection of information on those who are to respond, including through the use of appropriate automated collection techniques or other forms of information technology, e.g., permitting electronic submission of responses.

This Notice also lists the following information:

Title of Proposal: Ginnie Mae Mortgage-Backed Securities Guide 5500.3, Revision 1 (Forms and Electronic Data Submissions).

OMB Control Number, if applicable: 2503-0033.

Description of the need for the information and proposed use:Ginnie Mae's Mortgage-Backed Securities Guide 5500.3, Revision 1 (“Guide”) provides instructions and guidance to participants in the Ginnie Mae Mortgage-Backed Securities (“MBS”) programs (“Ginnie Mae I and Ginnie Mae II”). Under the Ginnie Mae I program, securities are backed by single-family or multifamily loans. Under the Ginnie Mae II pr.hgram securities are only backed by single-family loans. Both the Ginnie Mae I and II MBS are modified pass-through securities. The Ginnie Mae II multiple Issuer MBS is structured so that small issuers, who do not meet the minimum number of loans and dollar amount requirements of the Ginnie Mae I MBS, can participate in the secondary mortgage market. In addition, the Ginnie Mae II MBS permits the securitization of adjustable rate mortgages (“ARMs”).

Description of Proposed New Requirements:Due to the elimination of the application used for Fingerprint Enrollment used by Ginnie Mae issuers and document custodians to access the GinnieNET system, Ginnie Mae is revising our Appendix III-29 to include the following:

The name of the appendix will be changed to: Ginnie Mae Systems Access Appendix will have six (6) clearing defined sections. They are as follows:

Appendix III-29: Instructions: Incorporates language to make the Appendix applicable to Ginnie Mae's GinnieNET system as well as the Ginnie Mae GMEP system. It clarifies the relationship of the Appendix to Ginnie Mae form HUD 11708.

Appendix III-29 (A): Issuer Security Officer Registration: Incorporates language to make the Appendix applicable to Ginnie Mae's GinnieNET system as well as the Ginnie Mae GMEP system.

Appendix III-29 (B): User Registration for Issuer Only: Incorporates language to ensure the user acknowledgements and signed rules of behavior the encompass the use of the GinnieNET system. Adding a Ginnie NET section with two (2) check boxes to the following types of GinnieNET functions: GinnieNET RSA SecurID Token Holder and GinnieNET User.

Appendix III-29 (C): Custodian Security Officer Registration: Incorporates language to make the Appendix applicable to Ginnie Mae's GinnieNET system as well as the Ginnie Mae GMEP system.

Appendix III-29 (D): Custodian User Registration: Incorporates language to ensure the user acknowledgements and signed rules of behavior the encompass the use of the GinnieNET system. Adding a check box for GinnieNET SecurID Token Holder.

Appendix III-29 (E): RSA SecurID Token Request: New form to be used by Ginnie Mae Issuers and Document Custodians to obtain the required RSA Token and identify user access.

Appendix III-13: Name being changed from Electronic Data Interchanges System Agreement to Electronic Data Transfer Agreement Section 4.7: Choice of Law: will add: and Law of the District of Columbia.

The addition of the new sections and increase in Appendix III-29 is the reason for the increase of burden hours. There is no increase in burden hours with regard to Appendix III-13.

There are 15 forms and appendices in our collection which are volume driven rather than participant driven: these have increased as our portfolio has grown.

Included in the Guide are the appendices, forms, and documents necessary for Ginnie Mae to properly administer its MBS programs.

Agency form numbers, if applicable: 11700, 11701, 11702, 11704, 11705, 11706, 11707, 11708, 11709, 11709-A, 11710A, 1710-B, 1710-C, 11710D, 11710E, 11711-A, 11711-B, 11714, 11714-SN, 11720, 11715, 11732, 11785

While most of the calculations are based on number of respondents multiplied by the frequency of response, there are several items whose calculations are based on volume.

Form | Appendix No. | Title | Number of respondents | Frequency of responses per year | Total annual responses | Hours per response | Total annual hours
11700 | 11-1 | Letter of Transmittal | 329 | 4 | 1200 | 0.033 | 43.4
11701 | 1-1 | Application for Approval Ginnie Mae Mortgage-Backed Securities Issuer | 100 | 1 | 100 | .3 | 300.0
11702 | 1-2 | Resolution of Board of Directors and Certificate of Authorized Signatures | 454 | 1 | 454 | 0.08 | 36.3
11703- | 1-7 | Master Agreement for Participation Accounting | 14 | 1 | 14 | 0.08 | 1.1
11704 | 11-2 | Commitment to Guaranty Mortgage-Backed Securities | 329 | 4 | 1316 | 0.033 | 43.4
11707 | 111-1 | Master Servicing Agreement | 468 | 1 | 468 | 0.033 | 15.4
11709 | 111-2 | Master Agreement for Servicer's Principal and Interest Custodial Account | 468 | 1 | 468 | 0.033 | 15.4
11715 | 111-4 | Master Custodial Agreement | 468 | 1 | 468 | 0.033 | 15.4
11720 | 111-3 | Master Agreement for Servicer's Escrow Custodial Account | 468 | 1 | 468 | 0.033 | 15.4
11732 | 111-22 | Custodian's Certification for Construction Securities | 55 | 1 | 55 | 0.016 | 0.9
| IX-1 | Financial Statements and Audit Reports | 468 | 1 | 468 | 1 | 468 0
|  | Mortgage Bankers Financial Reporting Form | 315 | 4 | 1260 | 0.5 | 630.0
11709-A | 1-6 | ACH Debit Authorization | 468 | 1 | 468 | 0.033 | 15.4
11710 D | VI-5 | Issuer's Monthly Summary Reports | 315 | 12 | 3780 | 0.13 | 491.4
11710A, 1710B, 1710C &11710E | VI-12 | Issuer's Monthly Accounting Report and Liquidation Schedule | 315 | 1 | 315 | 0.13 | 41.0
11710-DH | VI-21 | HMBS Issuer's Monthly Summary Report | 14 | 12 | 168 | 0.13 | 21.8
| 111-13 | Electronic Data Transfer Agreement | 100 | 1 | 100 | 1 | 100.0
| 111-14 | Enrollment Administrator Signatories for Issuers and Document Custodians | 100 | 1 | 100 | 1 | 100.0
| 1-4 | Cross Default Agreement | 10 | 1 | 10 | 0.05 | 0.5
| VI-18 | WHFIT Reporting | 329 | 4 | 1316 | 0.13 | 171.0
| 111-29 | Systems Access Forms | 517 | 1 | 517 | 2 | 1034.0
| VIII-1 | Ginnie Mae Acknowledgement Agreement and Accompanying Documents Pledge of Servicing | 10 | 1 | 10 | 1 | 10
| VI-19 | Monthly Pool and Loan Level Report (RFS) | 300 | 12 | 3600 | 0.13 | 468.0
The burden for the Items listed below is based on volume and/or number of requests.
11705 | 111-6 | Schedule of Subscribers and Ginnie Mae Guaranty Agreement | 315 | 12 | 42000 | 0.05 | 2100.0
11706 | 111-7 | Schedule of Pooled Mortgages | 315 | 12 | 42000 | 0 08 | 97440.0
11705H | 111-28 | Schedule of Subscribers and Ginnie Mae Guaranty Agreement -HMBS Pooling-Import File Layout | 14 | 12 | 960 | 0.05 | 48
11708 | V-5 | Document Release Request | 329 | 1 | 329 | 0.05 | 16.5
| XI-6, XI-8, XI-9 | Soldiers' and Sailors' Quarterly Reimbursement Request and SSCRA Loan Eligibility Information | 32 | 4 | 8000 | 0.033 | 1056.0
11711A and 11711B | 111-5 | Release of Security Interest and Certification and Agreement | 329 | 1 | 678000 | 0.05 | 33900.0
11714 and 11714SN | VI-10, VI-11 | Issuer's Monthly Remittance Advice and Issuer's Monthly Serial Note Remittance Advice | 329 | 12 | 56400 | 0.016 | 10828.8
| VI-2 | Letter for Loan Repurchase | 315 | 12 | 600 | 0 033 | 237.6
| V11-1 | Collection of Remaining Principal Balances | 315 | 12 | 4800000 | 0.033 | 158400.0
| 111-21 | Certification Requirements for the Pooling of Multifamily Mature Loan Program | 298 | 1 | 29811 | 0.05 | 14.9
| VI-9 | Request for Reimbursement of Mortgage Insurance Claim Costs for Multifamily Loans | 21 | 1 | 21 | 0.25 | 5.3
| VIII-3 | Assignment Agreements | 67 | 1 | 67 | 0.13 | 8.7
| 111-9 | Authorization to Accept Facsimile Signed Correction Request Forms | 329 | 12 | 128 | 0.016 | 2.0
| VI-17 | HMBS Issuer Pooling & Reporting Specification for MBSAA |  | 12 | 38400 | 0.13 | 4992.0
Total |  |  |  | Varies | 10,481,802 | Varies | 2,618,588

Authority: Section 3506 of the Paperwork Reduction Act of 1995, 44 U.S.C. Chapter 35, as amended.

Dated: June 29, 2015.
Mary K. Kinney,
Executive Vice President, Government National Mortgage Association.

[FR Doc. 2015-16478 Filed 7-2-15; 8:45 am]

BILLING CODE 4210-67-P